DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on February 19, 2026. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On February 19, 2026, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

OFAC further determined that one or more persons identified below meet one or more of the criteria for sanctions pursuant to Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended).

As a result, the property and interests in property subject to U.S. jurisdiction of the following persons are blocked under the relevant sanctions authorities listed below.

Individuals

1. GUTIERREZ OCHOA, Jose Luis (a.k.a. “Tolin”), Jalisco, Mexico; DOB 29 Dec 1987; POB Michoacan de Ocampo, Mexico; nationality Mexico; Gender Male; Secondary sanctions risk: section 1(b) of Executive Order 13224, as amended by Executive Order 13886; C.U.R.P. GUOL871229HMNTCS09 (Mexico) (individual) [SDGT] [ILLICIT-DRUGS-EO14059] (Linked To: CARTEL DE JALISCO NUEVA GENERACION).

Designated pursuant to section 1(b)(iii) of E.O. 14059 for being owned, controlled, or directed by, or having acted or purported to act for or on behalf of, directly or indirectly, Cartel de Jalisco Nueva Generacion (CJNG), a person whose property and interests in property are blocked pursuant to E.O. 14059.

Designated pursuant to section 1(a)(iii)(A) of E.O. 13224, as amended, for being owned, controlled, or directed by, or having acted or purported to act for or on behalf of, directly or indirectly, CJNG, a person whose property and interests in property are blocked pursuant to E.O. 13224, as amended.

2. JIMENEZ TAPIA, Oscar Enrique (a.k.a. “El Tagayas”), Nayarit, Mexico; DOB 13 Dec 1985; POB Jalisco, Mexico; nationality Mexico; Gender Male; Secondary sanctions risk: section 1(b) of Executive Order 13224, as amended by Executive Order 13886; C.U.R.P. JITO851213HJCMPS07 (Mexico) (individual) [SDGT] [ILLICIT-DRUGS-EO14059] (Linked To: CARTEL DE JALISCO NUEVA GENERACION).

Designated pursuant to section 1(b)(iii) of E.O. 14059 for being owned, controlled, or directed by, or having acted or purported to act for or on behalf of, directly or indirectly, CJNG, a person whose property and interests in property are blocked pursuant to E.O. 14059.

Designated pursuant to section 1(a)(iii)(A) of E.O. 13224, as amended, for being owned, controlled, or directed by, or having acted or purported to act for or on behalf of, directly or indirectly, CJNG, a person whose property and interests in property are blocked pursuant to E.O. 13224, as amended.

3. PALACIOS RODRIGUEZ, Jose Eduardo, Puerto Vallarta, Jalisco, Mexico; DOB 12 Feb 1988; POB Jalisco, Mexico; nationality Mexico; Gender Male; Secondary sanctions risk: section 1(b) of Executive Order 13224, as amended by Executive Order 13886; C.U.R.P. PARE880212HJCLDD01 (Mexico) (individual) [SDGT] [ILLICIT-DRUGS-EO14059] (Linked To: CARTEL DE JALISCO NUEVA GENERACION).

Designated pursuant to section 1(b)(iii) of E.O. 14059 for being owned, controlled, or directed by, or having acted or purported to act for or on behalf of, directly or indirectly, CJNG, a person whose property and interests in property are blocked pursuant to E.O. 14059.

Designated pursuant to section 1(a)(iii)(A) of E.O. 13224, as amended, for being owned, controlled, or directed by, or having acted or purported to act for or on behalf of, directly or indirectly, CJNG, a person whose property and interests in property are blocked pursuant to E.O. 13224, as amended.

4. RIOS GONZALEZ, Jonathan Faustino (a.k.a. “Johnny Hood”; a.k.a. “Jonas Hood”), Jalisco, Mexico; DOB 25 Feb 1989; POB Jalisco, Mexico; nationality Mexico; Gender Male; Secondary sanctions risk: section 1(b) of Executive Order 13224, as amended by Executive Order 13886; C.U.R.P. RIGJ890225HJCSNN06 (Mexico) (individual) [SDGT] [ILLICIT-DRUGS-EO14059] (Linked To: CARTEL DE JALISCO NUEVA GENERACION).

Designated pursuant to section 1(b)(iii) of E.O. 14059 for being owned, controlled, or directed by, or having acted or purported to act for or on behalf of, directly or indirectly, CJNG, a person whose property and interests in property are blocked pursuant to E.O. 14059.

Designated pursuant to section 1(a)(iii)(A) of E.O. 13224, as amended, for being owned, controlled, or directed by, or having acted or purported to act for or on behalf of, directly or indirectly, CJNG, a person whose property and interests in property are blocked pursuant to E.O. 13224, as amended.

5. RIVERA MIRAMONTES, Carlos Humberto, Guadalajara, Jalisco, Mexico; DOB 14 Jan 1962; POB Jalisco, Mexico; nationality Mexico; Gender Male; Secondary sanctions risk: section 1(b) of Executive Order 13224, as amended by Executive Order 13886; C.U.R.P. RIMC620114HJCVRR04 (Mexico) (individual) [SDGT] [ILLICIT-DRUGS-EO14059] (Linked To: CARTEL DE JALISCO NUEVA GENERACION).

Designated pursuant to section 1(b)(iii) of E.O. 14059 for being owned, controlled, or directed by, or having acted or purported to act for or on behalf of, directly or indirectly, CJNG, a person whose property and interests in property are blocked pursuant to E.O. 14059.

Designated pursuant to section 1(a)(iii)(A) of E.O. 13224, as amended, for being owned, controlled, or directed by, or having acted or purported to act for or on behalf of, directly or indirectly, CJNG, a person whose property and interests in property are blocked pursuant to E.O. 13224, as amended.

Entities

1. ADMINISTRADORA Y COMERCIALIZADORA DEL MAR, S.A. DE C.V., Bahia de Banderas, Nayarit, Mexico; Secondary sanctions risk: section 1(b) of Executive Order 13224, as amended by Executive Order 13886; Organization Established Date 01 Dec 2014; Organization Type: Short term accommodation activities; Folio Mercantil No. 1926 (Mexico) [SDGT] [ILLICIT-DRUGS-EO14059] (Linked To: KOVAY GARDENS).

Designated pursuant to section 1(b)(iii) of E.O. 14059 for being owned, controlled, or directed by, or having acted or purported to act for or on behalf of, directly or indirectly, Kovay Gardens, a person whose property and interests in property are blocked pursuant to E.O. 14059.

Designated pursuant to section 1(a)(iii)(A) of E.O. 13224, as amended, for being owned, controlled, or directed by, or having acted or purported to act for or on behalf of, directly or indirectly, Kovay Gardens, a person whose property and interests in property are blocked pursuant to E.O. 13224, as amended.

2. AGENCIA DE SERVICIOS TURISTICOS INTERNACIONALES G8, S.A. DE C.V., Guadalajara, Jalisco, Mexico; Secondary sanctions risk: section 1(b) of Executive Order 13224, as amended by Executive Order 13886; Organization Established Date 18 May 2012; Organization Type: Real estate activities on a fee or contract basis; Folio Mercantil No. 67889 (Mexico) [SDGT] [ILLICIT-DRUGS-EO14059] (Linked To: PALACIOS RODRIGUEZ, Jose Eduardo).

Designated pursuant to section 1(b)(iii) of E.O. 14059 for being owned, controlled, or directed by, or having acted or purported to act for or on behalf of, directly or indirectly, Jose Eduardo Palacios Rodriguez, a person whose property and interests in property are blocked pursuant to E.O. 14059.

Designated pursuant to section 1(a)(iii)(A) of E.O. 13224, as amended, for being owned, controlled, or directed by, or having acted or purported to act for or on behalf of, directly or indirectly, Jose Eduardo Palacios Rodriguez, a person whose property and interests in property are blocked pursuant to E.O. 13224, as amended.

3. ASESORIA Y SERVICIOS IMPORTADORES, S.A. DE C.V., Guadalajara, Jalisco, Mexico; Secondary sanctions risk: section 1(b) of Executive Order 13224, as amended by Executive Order 13886; Organization Established Date 19 Jun 2003; Organization Type: Other business support service activities n.e.c.; Folio Mercantil No. 18727 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

4. CLUB DEPORTIVO DE FORMACION AL FUTBOL GMX, S.DE R.L. DE C.V., Bahia de Banderas, Nayarit, Mexico; Secondary sanctions risk: section 1(b) of Executive Order 13224, as amended by Executive Order 13886; Organization Established Date 17 Nov 2023; Organization Type: Activities of sports clubs; Folio Mercantil No. N-2024010467 (Mexico) [SDGT] [ILLICIT-DRUGS-EO14059] (Linked To: JIMENEZ TAPIA, Oscar Enrique).

Designated pursuant to section 1(b)(iii) of E.O. 14059 for being owned, controlled, or directed by, or having acted or purported to act for or on behalf of, directly or indirectly, Oscar Enrique Jimenez Tapia, a person whose property and interests in property are blocked pursuant to E.O. 14059.

Designated pursuant to section 1(a)(iii)(A) of E.O. 13224, as amended, for being owned, controlled, or directed by, or having acted or purported to act for or on behalf of, directly or indirectly, Oscar Enrique Jimenez Tapia, a person whose property and interests in property are blocked pursuant to E.O. 13224, as amended.

5. COLINAS PROYECTOS Y CONSTRUCCIONES, S.A. DE C.V., Guadalajara, Jalisco, Mexico; Secondary sanctions risk: section 1(b) of Executive Order 13224, as amended by Executive Order 13886; Organization Established Date 19 Jun 2003; Organization Type: Construction of buildings [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

6. CONSTRUCTORA PALACIOS PV, S.A. DE C.V., Puerto Vallarta, Jalisco, Mexico; Secondary sanctions risk: section 1(b) of Executive Order 13224, as amended by Executive Order 13886; Organization Established Date 23 Jan 2023; Organization Type: Real estate activities on a fee or contract basis; Folio Mercantil No. N-2023010539 (Mexico) [SDGT] [ILLICIT-DRUGS-EO14059] (Linked To: PALACIOS RODRIGUEZ, Jose Eduardo).

Designated pursuant to section 1(b)(iii) of E.O. 14059 for being owned, controlled, or directed by, or having acted or purported to act for or on behalf of, directly or indirectly, Jose Eduardo Palacios Rodriguez, a person whose property and interests in property are blocked pursuant to E.O. 14059.

Designated pursuant to section 1(a)(iii)(A) of E.O. 13224, as amended, for being owned, controlled, or directed by, or having acted or purported to act for or on behalf of, directly or indirectly, Jose Eduardo Palacios Rodriguez, a person whose property and interests in property are blocked pursuant to E.O. 13224, as amended.

7. CORPORATIVO CONTROLADOR EXPLORA, S.A. DE C.V., Guadalajara, Jalisco, Mexico; Secondary sanctions risk: section 1(b) of Executive Order 13224, as amended by Executive Order 13886; Organization Established Date 19 Jun 2003; Organization Type: Activities of holding companies; Folio Mercantil No. 18728 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

8. CORPORATIVO DE TRANSFERENCIAS INTERNACIONALES DE BIENES RAICES, S.A. DE C.V., Guadalajara, Jalisco, Mexico; Organization Established Date 18 May 2012; Organization Type: Real estate activities on a fee or contract basis; Folio Mercantil No. 67922 (Mexico) [SDGT] [ILLICIT-DRUGS-EO14059].

Designated pursuant to section 1(b)(iii) of E.O. 14059 for being owned, controlled, or directed by, or having acted or purported to act for or on behalf of, directly or indirectly, Jose Eduardo Palacios Rodriguez, a person whose property and interests in property are blocked pursuant to E.O. 14059.

Designated pursuant to section 1(a)(iii)(A) of E.O. 13224, as amended, for being owned, controlled, or directed by, or having acted or purported to act for or on behalf of, directly or indirectly, Jose Eduardo Palacios Rodriguez, a person whose property and interests in property are blocked pursuant to E.O. 13224, as amended.

9. DEEP BLUE DESARROLLOS, S. DE R.L. DE C.V., Guadalajara, Jalisco, Mexico; Secondary sanctions risk: section 1(b) of Executive Order 13224, as amended by Executive Order 13886; Organization Established Date 08 May 2012; Organization Type: Other financial service activities, except insurance and pension funding activities, n.e.c.; Folio Mercantil No. 68136 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

10. DEEP BLUE SERVICIOS, S.A. DE C.V., Guadalajara, Jalisco, Mexico; Secondary sanctions risk: section 1(b) of Executive Order 13224, as amended by Executive Order 13886; Organization Established Date 16 Nov 2012; Organization Type: Other financial service activities, except insurance and pension funding activities, n.e.c.; Folio Mercantil No. N-2020017004 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

11. ESTRATEGIA PVR, S. DE R.L. DE C.V., Guadalajara, Jalisco, Mexico; Secondary sanctions risk: section 1(b) of Executive Order 13224, as amended by Executive Order 13886; Organization Established Date 19 Dec 2013; Organization Type: Other financial service activities, except insurance and pension funding activities, n.e.c.; Folio Mercantil No. 80595 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

12. HIGH LAND PARK, S.A. DE C.V., Guadalajara, Jalisco, Mexico; Secondary sanctions risk: section 1(b) of Executive Order 13224, as amended by Executive Order 13886; Organization Established Date 04 Mar 2014; Organization Type: Travel agency activities; Folio Mercantil No. N-2020017828 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

13. HOTEL MANAGEMENT INTERNATIONAL, LLC (a.k.a. VALLARTA GARDENS RESORTS, LLC), San Antonio, TX, United States; Secondary sanctions risk: section 1(b) of Executive Order 13224, as amended by Executive Order 13886; Organization Established Date 14 Nov 2012; Organization Type: Other reservation service and related activities; Tax ID No. 32049481941 (Texas) (United States) [SDGT] [ILLICIT-DRUGS-EO14059] (Linked To: RIVERA MIRAMONTES, Carlos Humberto).

Identified pursuant to section 2(a)(i) of E.O. 14059 as property in which Carlos Humberto Rivera Miramontes, a person whose property and interests in property are proposed are blocked pursuant to E.O. 14059, has an interest.

Identified pursuant to section 1(a) of E.O. 13224, as amended, as property in which Carlos Humberto Rivera Miramontes, a person whose property and interests in property are blocked pursuant to E.O. 13224, as amended, has an interest.

14. KOVAY GARDENS (a.k.a. VALLARTA GARDENS), La Cruz de Huanacaxtle, Nayarit, Mexico; website https://kovaygardens.com; Secondary sanctions risk: section 1(b) of Executive Order 13224, as amended by Executive Order 13886; Organization Established Date 2002; Organization Type: Short term accommodation activities [SDGT] [ILLICIT-DRUGS-EO14059] (Linked To: CARTEL DE JALISCO NUEVA GENERACION).

Designated pursuant to section 1(b)(iii) of E.O. 14059 for being owned, controlled, or directed by, or having acted or purported to act for or on behalf of, directly or indirectly, CJNG, a person whose property and interests in property are blocked pursuant to E.O. 14059.

Designated pursuant to section 1(a)(iii)(A) of E.O. 13224, as amended, for being owned, controlled, or directed by, or having acted or purported to act for or on behalf of, directly or indirectly, CJNG, a person whose property and interests in property are blocked pursuant to E.O. 13224, as amended.

15. ORNITORRINCO INMOBILIARIA, S.A. DE C.V., Guadalajara, Jalisco, Mexico; Secondary sanctions risk: section 1(b) of Executive Order 13224, as amended by Executive Order 13886; Organization Established Date 07 Jun 2011; Organization Type: Real estate activities on a fee or contract basis; Folio Mercantil No. 63646 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

16. PUNTO 54, S.A. DE C.V., Guadalajara, Jalisco, Mexico; Secondary sanctions risk: section 1(b) of Executive Order 13224, as amended by Executive Order 13886; Organization Established Date 19 Feb 2014; Organization Type: Travel agency activities; Folio Mercantil No. 80025 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

17. REEF ADMINISTRACION AVANZADA, S. DE R.L. DE C.V., Guadalajara, Jalisco, Mexico; Secondary sanctions risk: section 1(b) of Executive Order 13224, as amended by Executive Order 13886; Organization Established Date 09 Jan 2014; Organization Type: Other financial service activities, except insurance and pension funding activities, n.e.c.; Folio Mercantil No. 80598 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

18. SOLUGAS SOLUCIONES EN GASOLINERAS, S.A. DE C.V., Zapopan, Jalisco, Mexico; Secondary sanctions risk: section 1(b) of Executive Order 13224, as amended by Executive Order 13886; Organization Type: Retail sale of automotive fuel in specialized stores; RFC SSG080722688 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

19. VG DESARROLLOS DE LA BAHIA, S.A. DE C.V. (a.k.a. FARO GRILL; a.k.a. GRUPO KOVAY; a.k.a. KOVAY DESARROLLOS; a.k.a. MARINE DIAMOND; a.k.a. NAVIS BY LA CRUZ; a.k.a. QUIYA RESIDENCES; a.k.a. SANTA JULIA SEASIDE LIVING; a.k.a. Selvara Signature Collection; a.k.a. ZUL BY LA CRUZ), Guadalajara, Jalisco, Mexico; Nayarit, Mexico; website https://kovaydesarrollos.com; Secondary sanctions risk: section 1(b) of Executive Order 13224, as amended by Executive Order 13886; Organization Established Date 11 Jan 2013; Organization Type: Real estate activities on a fee or contract basis; Folio Mercantil No. N-2020017740 (Mexico) [SDGT] [ILLICIT-DRUGS-EO14059] (Linked To: RIVERA MIRAMONTES, Carlos Humberto).

Designated pursuant to section 1(b)(iii) of E.O. 14059 for being owned, controlled, or directed by, or having acted or purported to act for or on behalf of, directly or indirectly, Carlos Humberto Rivera Miramontes, a person whose property and interests in property are blocked pursuant to E.O. 14059.

Designated pursuant to section 1(a)(iii)(A) of E.O. 13224, as amended, for being owned, controlled, or directed by, or having acted or purported to act for or on behalf of, directly or indirectly, Carlos Humberto Rivera Miramontes, a person whose property and interests in property are blocked pursuant to E.O. 13224, as amended.

(Authorities: E.O. 14059; E.O. 13224, as amended)

Bradley T. Smith,
Director, Office of Foreign Assets Control.

[FR Doc. 2026-03803 Filed 2-25-26; 8:45 am]

BILLING CODE 4810-AL-P